DEPARTMENT OF EDUCATION

Submission for OMB Review; Comment Request

AGENCY: Department of Education.

SUMMARY: The Leader, Regulatory Information Management Group, Office of the Chief Information Officer invites comments on the submission for OMB review as required by the Paperwork Reduction Act of 1995.

DATES: Interested persons are invited to submit comments on or before September 21, 2001.

ADDRESSES: Written comments should be addressed to the Office of Information and Regulatory Affairs, Attention: Lauren Wittenberg, Acting Desk Officer, Department of Education, Office of Management and Budget, 725 17th Street, NW., Room 10235, New Executive Office Building, Washington, DC 20503 or should be electronically mailed to the internet address Lauren_Wittenberg@omb.eop.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Leader, Regulatory Information Management Group, Office of the Chief Information Officer, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: August 16, 2001.
John Tressler,
Leader, Regulatory Information Management, Office of the Chief Information Officer.

Office of Postsecondary Education

Type of Review: Extension of a currently approved collection.

Title: Learning Anytime Anywhere Partnerships (LAAP) Guidelines for Annual Performance Reports with Auxiliary Collection Instruments (JS).

Frequency: Annually other: Enrollment.

Affected Public: Not-for-profit institutions.

Reporting and Recordkeeping Hour Burden:

Responses: 40.

Burden Hours: 1600.

Abstract: The current Annual Progress Report format for the LAAP grant program was used for formative evaluation last year. With that experience we have refined the GPRA indicators and the measures for collecting data across projects that is comparable, consistent, and reliable. We have also taken a modular approach to structuring the narrative of the report, so that the collection is less burdensome to respondents, yet more useful to program evaluation. Finally, we have augmented the Annual Report data collection by doing a follow-up telephone interview to validate and enrich data, as well as a software evaluation protocol for assessing the quality of the educational software products that may result from the grant projects.

Requests for copies of the proposed information collection request may be accessed from http://edicsweb.ed.gov, or should be addressed to Vivian Reese, Department of Education, 400 Maryland Avenue, SW., Room 4050, Regional Office Building 3, Washington, DC 20202-4651. Requests may also be electronically mailed to the internet address OCIO_RIMG@ed.gov or faxed to 202-708-9346. Please specify the complete title of the information collection when making your request.

Comments regarding burden and/or the collection activity requirements should be directed to SCHUBART at (202) 708-9266. Individuals who use a telecommunications device for the deaf (TDD) may call the Federal Information Relay Service (FIRS) at 1-800-877-8339.

Office of Student Financial Assistance Programs

Type of Review: Extension of a currently approved collection.

Title: Federal Register Notice Inviting Applications for the Participation in the Quality Assurance (QA) Program (JS).

Frequency: Other: One time.

Affected Public: Not-for-profit institutions (primary), businesses or other for-profit, Federal Government.

Reporting and Recordkeeping Hour Burden:

Responses: 125.

Burden Hours: 125.

Abstract: With this notice, the Secretary invites institutions of higher education to send a letter of application to partcipate in the Department of Education's Quality Assurance (QA) Program. This Program is intended to allow and encourage participating institutions to develop and implement their own comprehensive programs to verify student financial aid application data. It also encourages alternative management approaches in areas of institutional processing and disbursement of Title IV funds, and entrance and exit counseling.

Requests for copies of the proposed information collection request may be accessed from http://edicsweb.ed.gov, or should be addressed to Vivian Reese, Department of Education, 400 Maryland Avenue, SW., Room 4050, Regional Office Building 3, Washington, DC 20202-4651. Requests may also be electronically mailed to the internet address OCIO_RIMG@ed.gov or faxed to 202-708-9346. Please specify the complete title of the information collection when making your request.

Comments regarding burden and/or the collection activity requirements should be directed to Joe Schubart at (202) 708-9266. Individuals who use a telecommunications device for the deaf (TDD) may call the Federal Information Relay Service (FIRS) at 1-800-877-8339.

Office of Student Financial Assistance Programs

Type of Review: New collection.

Title: Federal Perkins Loan/NDSL Promissory Notes (JS).

Frequency: On occasion.

Affected Public: Individuals or household (primary), businesses or other for-profit, not-for-profit institutions.

Reporting and Recordkeeping Hour Burden:

Responses: 690,000.

Burden Hours: 345,000.

Abstract: The promissory note is the means by which a borrower applies for a Federal Perkins Loan or National Direct Student Loan and promises to repay the loan.

Requests for copies of the proposed information collection request may be accessed from http://edicsweb.ed.gov, or should be addressed to Vivian Reese, Department of Education, 400 Maryland Avenue, SW, Room 4050, Regional Office Building 3, Washington, DC 20202-4651. Requests may also be electronically mailed to the internet address OCIO_RIMG@ed.gov or faxed to 202-708-9346. Please specify the complete title of the information collection when making your request. Comments regarding burden and/or the collection activity requirements should be directed to Joe Schubart at (202) 708-9266. Individuals who use a telecommunications device for the deaf (TDD) may call the Federal Information Relay Service (FIRS) at 1-800-877-8339.

Office of the Undersecretary

Type of Review: New collection.

Title: Study of State Administration of Even Start and Statewide Family Literacy Initiative Grants (JM).

Frequency: On occasion.

Affected Public: State, Local, or Tribal Gov't, SEAs or LEAs (primary).

Reporting and Recordkeeping Hour Burden:

Responses: 94.

Burden Hours: 240.

Abstract: The Study of State Administration of Even Start and Statewide Family Literacy Initiative Grants will systematically describe the structure and processes associated with all major areas of Even Start administration at the state level. This information is needed by the U.S. Department of Education to enhance its capacity to monitor the development and improvement of the Even Start program and provide guidance and assistance to the states. This study will involve two data collection components: (1) Survey of State Even Start Coordinators which will include Even Start state coordinators and (2) State Even Start Case Study Interviews (telephone interviews with six state coordinators, and site visit interviews with six additional state coordinators and up to five additional state staff per each of these six states).

Requests for copies of the proposed information collection request may be accessed from http://edicsweb.ed.gov, or should be addressed to Vivian Reese, Department of Education, 400 Maryland Avenue, SW., Room 4050, Regional Office Building 3, Washington, DC 20202-4651. Requests may also be electronically mailed to the internet address OCIO_RIMG@ed.gov or faxed to 202-708-9346. Please specify the complete title of the information collection when making your request.

Comments regarding burden and/or the collection activity requirements should be directed to Montague at (202) 708-5359. Individuals who use a telecommunications device for the deaf (TDD) may call the Federal Information Relay Service (FIRS) at 1-800-877-8339.

Office of the Chief Financial Officer

Type of Review: Reinstatement.

Title: Streamlined Process for Education Department General Administrative Regulations (EDGAR) Approved Grant Applications (JM).

Frequency: Annually.

Affected Public: State, Local, or Tribal Gov't, SEAs or LEAs, businesses or other for-profit, not-for-profit institutions.

Reporting and Recordkeeping Hour Burden:

Responses: 1.

Burden Hours: 1.

Abstract: Since April 1997, EDGAR's menu of selection criteria become effective. For each competition, the Secretary would select one or more criteria that best enable the Department to identify the highest quality applications consistent with the program purpose, statutory requirements, and any priorities established. This allows the Secretary the flexibility to weigh the criteria according to the needs of each individual program. This menu of selection criteria will provide the Department the flexibility to choose a set of criteria tailored to a given competition and obviate the need to create specific selection criteria through individual program regulations. ED is requesting a streamlined clearance process for programs of approved applications who choose to change: (1) Criteria from the same EDGAR menu; (2) old EDGAR to new EDGAR criteria, or (3) program criteria to EDGAR criteria.

Requests for copies of the proposed information collection request may be accessed from http://edicsweb.ed.gov, or should be addressed to Vivian Reese, Department of Education, 400 Maryland Avenue, SW., Room 4050, Regional Office Building 3, Washington, DC 20202-4651. Requests may also be electronically mailed to the internet address OCIO_IMG_Issues@ed.gov or faxed to 202-708-9346. Please specify the complete title of the information collection when making your request. Comments regarding burden and/or the collection activity requirements should be directed to Montague at (202) 708-5359. Individuals who use a telecommunications device for the deaf (TDD) may call the Federal Information Relay Service (FIRS) at 1-800-877-8339.

[FR Doc. 01-21121 Filed 8-21-01; 8:45 am]

BILLING CODE 4000-01-U